DEPARTMENT OF AGRICULTURE

Forest Service

Medford-Park Falls Ranger District, Chequamegon-Nicolet National Forest, Park Falls Hardwoods Project

AGENCY: Forest Service, USDA.

ACTION: Notice of Intent to prepare an Environmental Impact Statement.

SUMMARY: The USDA Forest Service, Chequamegon-Nicolet National Forest, Medford-Park Falls Ranger District intends to prepare an Environmental Impact Statement (EIS) to document the analysis and disclose the environmental effects of proposed land management activities, and corresponding alternatives within the Park Falls Hardwoods project area. The primary purpose of this proposal is to implement activities consistent with direction in the Chequamegon-Nicolet National Forests Land and Resource Management Plan (Forest Plan) and respond to specific needs identified in the project area. The project area is located on the Park Falls unit of the Medford-Park Falls Ranger District, Chequamegon-Nicolet National Forest, approximately 13-15 miles northeast of Phillips, Wisconsin. The legal description for the area is: Portions of the eastern Sections of Township 37 North, Range 3 East; Township 38 North, Range 3 East; and Township 39 North, Range 3 East; Fourth Principal Meridian.

DATES: Comments concerning the scope of the analysis must be received within 30 days of publication of this notice to receive timely consideration in preparation of the draft Environmental Impact Statement (EIS). The draft EIS is expected May 2010 and the final EIS is expected November 2010.

ADDRESSES: Send written comments to District Ranger Bob Heimes, c/o Jane Darnell, Medford-Park Falls Ranger District, 850 N. 8th St., Medford, Wisconsin 54451. Comments may also be sent via e-mail to jdarnell01@fs.fed.us with a subject line that reads “Park Falls Hardwoods Project”, or via facsimile to 715-748-5675.

FOR FURTHER INFORMATION CONTACT: Jane Darnell, NEPA Coordinator, Medford-Park Falls Ranger District, Chequamegon-Nicolet National Forest, USDA Forest Service; telephone: 715-748-4875 (individuals who use telecommunication devices for the deaf, TDD, may call the Federal Information Relay Service (FIRS) at 1-800-877-8339 between 8 a.m. and 8 p.m., Eastern Time, Monday through Friday). For a mailing address, see above under ADDRESSES. Copies of documents may be requested at the same address. Another means of obtaining information is to visit the Forest Web page at http://www.fs.fed.us/r9/cnnf/natres/index.html. Click on “Park Falls Hardwoods Project” under the “Current Proposed Actions” heading.

SUPPLEMENTARY INFORMATION: The information presented in this notice is included to help the reviewer determine if they are interested in or potentially affected by this proposed project. The information presented in this notice is summarized. Those who wish to comment on this proposal or are otherwise interested in or potentially affected by it are encouraged to review more detailed documents such as the Proposed Action for the Park Falls Hardwoods project and the draft EIS as these documents become available. See the preceding section of this notice for contact information.

Purpose and Need for Action

The Park Falls Hardwoods project primarily falls within the area defined in the Chequamegon-Nicolet National Forests 2004 Land and Resource Management Plan (Forest Plan) as Management Area (MA) 2B. MA 2B is described in the Forest Plan as having a desired condition as an uneven-aged, northern hardwood, interior forest. Guidance in the Forest Plan identifies this area to be managed for relatively continuous mid to late successional northern hardwood and northern hardwood-hemlock forest communities where large patch conditions and a relatively continuous canopy is maintained or recreated. The primary purpose of the Park Falls Hardwoods proposal is to implement activities consistent with direction in the Forest Plan and to respond to specific needs identified in the project area. Through an analysis of the existing conditions within the project area compared to the desired conditions as documented in the Forest Plan, six needs for action have been identified (A-F):

A. Need to Maintain and Improve Forest Health (Forest Plan Goal 1.4): Nine needs have been identified related to forest health.

There is a need to understand the processes controlling forest-atmosphere exchange of carbon dioxide and the response of these processes to climate change.

Emerald ash borer (EAB) is an introduced insect that has the potential to devastate all native ash species similar to what occurred to the American chestnut and American elm. There is a need to identify site-specific strategies to control or minimize impacts to ash and the forest ecosystem from EAB.

There is a need to re-establish healthy, vigorous forest in areas impacted by disease and wind damage.

There is a need to restore and expand Canada yew populations within the project area.

Most of the mid to late successional upland forest within the project area is well over the stocking levels prescribed in the Forest Plan to maintain forest health and productivity. There is a need to treat these areas to promote forest health and vigor.

There is a need to reduce the amount of early successional species (primarily aspen) within the project area. For MA 2B, Chapter 3 of the Forest Plan has a desired condition for aspen of a maximum of 10% of the upland forest. The existing condition is that aspen comprises about 25% of the upland forest type.

The majority of the hardwood forest within the project area was established 70 to 80 years ago and is comprised of trees that are all about the same age. In MA 2B, the Forest Plan describes the desired condition for the area as mid to late successional uneven-aged northern hardwood forests. There is a need to increase the amount of uneven-aged hardwood forest within the project area.

Much of the hardwood forest within the project area is connected in large blocks. There are some instances, particularly in the southern portion of the project area, where treatment of early successional forest to convert it to later successional species, will increase the potential and meet the need for larger patches of the desired forest type (hardwoods, spruce, pine, hemlock, oak).

As described earlier, the 2B management prescription calls for upland forest of primarily mid to late successional species. While there is an overabundance of early successional species in the project area, the early successional species that are present are also overabundant in the older age groups, with limited representation in the youngest age groups (0-10 years of age).

B. Need to Maintain and Improve Threatened, Endangered, and Sensitive Species Habitats (Forest Plan Goal 1.1): Based on monitoring, the habitat for spruce grouse (a sensitive species) as identified by the Forest Plan is near the minimum threshold identified for this species forest-wide. There is a need to increase the amount of habitat for this species where feasible. The project area contains some habitat for spruce grouse which could be improved and expanded.

C. Need to Maintain and Improve Coldwater Fisheries (Forest Plan Goal 1.5): There is a need to reduce the amount of aspen adjacent to streams within the project area, particularly cold water streams. Beaver activity (primarily feeding or utilization of aspen close to these streams) results in lack of shade trees adjacent to the stream and potentially leads to increases in water temperature, making it unsuitable for cold water species.

D. Need to Maintain or Enhance the Quality of the Recreation Experience (Forest Plan Goal 2.1): The Fould's Creek spring ponds have long been utilized as a recreational fishery. Also, there are currently no designated non-motorized trails within the project area. Some of the project area is designated for non-motorized public access, so public access is limited to foot travel. There is a need to provide adequate foot travel access within the project area which would improve the quality of the recreational experience.

E. Need for Supplying Wood Products (Forest Plan Goal 2.5): The harvest activities being proposed to meet the needs for action would result in the availability of wood products, including pulpwood, sawtimber, and biomass products. Environmentally sound harvest through commercial timber sales would meet this need.

F. Need to Develop and Maintain Capital Infrastructure (Forest Plan Goal 3.1 Transportation Systems): Based on a roads analysis, there is a need to provide an adequate, safe, and efficient transportation system in the project area. More specifically, total road densities are slightly above the desired road density in portions of the project area, some roads are in areas susceptible to resource damage, other roads are located in areas where there are no foreseeable access needs, and some areas lack access.

Proposed Action

The proposed land management activities (proposed actions) to meet the needs of the area include the following:

A. The following tree harvest activities address the needs to maintain or improve forest health in the project area: (1) Selection harvest on about 14,500 acres; (2) Improvement harvest on about 1,400 acres; (3) Thinning harvest on about 150 acres; (4) Shelterwood harvest on about 380 acres; (5) Overstory removal harvest on about 160 acres; and (6) Clearcut harvest on about 450 acres. Selection, thinning, and improvement harvest are types of harvest activities that remove only a portion of the existing trees to encourage regeneration of an understory, to encourage age-class development, or to encourage growth, health and vigor in the remaining trees. Other proposed projects related to forest health include restoration of about 2 acres of Canada yew by supplemental planting and fencing and restoration of desired tree species (conifer and oak for example) through supplemental planting within a portion of the proposed harvest areas.

B. The following project addresses the need to maintain or improve Regional Forester Sensitive Species habitat (spruce grouse habitat): Supplemental planting and retention of spruce on about 50 acres.

C. The following project addresses the need to maintain or improve coldwater fisheries: Retention of shade trees and discouragement of aspen adjacent to 12 miles of coldwater streams.

D. The following project addresses the need to provide and enhance recreation opportunities: Designation of about 6 miles of walking trails.

E. The following project addresses the need for supplying wood products: Proposed harvest activities will be conducted through commercial timber sales with an estimated 91 million board feet of pulpwood and sawtimber products, and potentially 14,000 dry tons of tree top material which could be utilized for biomass.

F. The following projects address transportation needs for timber harvest and for providing a safe and efficient transportation system to meet administrative and public access needs: (1) New permanent road construction of about 12 miles; (2) New temporary road construction of about 1 mile; (3) Road reconstruction of about 43 miles; and (4) Road decommissioning of about 29 miles. In addition, the proposal includes designation of about 16 miles of road that would be open to public highway vehicle use and another 14 miles that would also be open to OHV (off highway vehicle) use.

Possible Alternatives

Alternatives to the proposed action that are currently being considered for display in the draft EIS are as follows: The required No Action alternative. Other alternatives will be developed as the analysis progresses.

Responsible Official

Bob Heimes, Medford-Park Falls District Ranger, Chequamegon-Nicolet National Forest.

Nature of Decision To Be Made

The primary decision will be whether or not to implement the proposed projects or alternatives of the projects within the project area that respond to the purpose and need. The decision will also include resource protection measures as identified in the applicable Forest Plan standards and guidelines. The decision may also include monitoring requirements and whether Forest Plan amendments are needed to implement the decision.

Scoping Process

This notice of intent initiates the scoping process, which guides the development of the environmental impact statement. Comments in response to this solicitation for information should focus on (1) the proposal; (2) issues or impacts from the proposal; and (3) possible alternatives for addressing issues associated with the proposal. We are especially interested in information that might identify a specific undesired result of implementing the proposed actions.

It is important that reviewers provide their comments at such times and in such maimer that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: January 4, 2010.
Jeanne M. Higgins,
Forest Supervisor.

[FR Doc. 2010-214 Filed 1-11-10; 8:45 am]

BILLING CODE 3410-11-M